DEPARTMENT OF TRANSPORTATION

Federal Aviation Administration

14 CFR Part 71

[Docket No. FAA-2023-1533; Airspace Docket No. 23-AWA-4]

RIN 2120-AA66

Amendment of Class C Airspace; Palm Beach International Airport, West Palm Beach, FL

AGENCY: Federal Aviation Administration (FAA), DOT.

ACTION: Final rule, correction.

SUMMARY: This action corrects a final rule published by the FAA in the Federal Register on July 18, 2023, that amends the Palm Beach International Airport, FL Class C airspace description as published in FAA Order JO 7400.11G, dated August 19, 2022. In the rule, the text describing Area C of the Class C airspace area was inadvertently omitted from the Palm Beach, FL Class C airspace description. This action restores the text for Area C to the Class C description.

DATES: Effective date 0901 UTC, October 5, 2023. The Director of the Federal Register approves this incorporation by reference action under 1 CFR part 51, subject to the annual revision of FAA Order JO 7400.11 and publication of conforming amendments.

ADDRESSES: A copy of the final rule, this final rule correction, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

History

The FAA published a final rule in the Federal Register for Docket No. FAA-2023-1533 (88 FR 45812; July 18, 2023) that amended the text header in the Palm Beach International Airport, FL Class C airspace description as published in FAA Order JO 7400.11G. The change removed the words “Palm Beach International Airport” from the first line in the Class C description and replaced them with the words “West Palm Beach”. This change aligned with the current formatting standard which requires that the city location of the airport be stated on the first line of the description and the airport name be stated on the second line. In the regulatory text of the rule, the text describing Area C of the Class C airspace area was inadvertently omitted. This action reinserts Area C in the Class C description.

Correction to Final Rule

Accordingly, pursuant to the authority delegated to me, in Docket No. FAA-2023-1533, as published in the Federal Register of July 18, 2023 (88 FR 45812), FR Doc. 2023-15147, is corrected as follows:

Amend the West Palm Beach, FL Airspace Class C description by adding Area C to the description, to read as follows:

§ 71.1 [Corrected]

* * * * *

ASO FL C West Palm Beach, FL [Corrected]

Palm Beach International Airport, FL

(Lat. 26°40′59″ N, long. 80°05′44″ W)

Palm Beach County Park Airport

(Lat. 26°35′35″ N, long. 80°05′06″ W)

Boundaries.

Area A. That airspace extending upward from the surface to and including 4,000 feet MSL within a 5-mile radius of the Palm Beach International Airport, excluding that airspace within a 2-mile radius of the Palm Beach County Park Airport.

Area B. That airspace extending upward from 1,600 feet MSL to and including 4,000 feet MSL within an area bounded on the north by a line direct from the intersection of the Florida Turnpike (highway 91) and Lantana Road to the intersection of a 5-mile radius of the Palm Beach International Airport and a 2-mile radius west of the Palm Beach County Park Airport and a 2-mile radius north of the Palm Beach County Park Airport, on the east by a line direct from the intersection of a 5-mile radius of the Palm Beach International Airport and a 2-mile radius east of the Palm Beach County Park Airport to the intersection of a 10-mile radius of the Palm Beach International Airport and U.S. 1, on the south by a 10-mile radius of the Palm Beach International Airport, and on the west by the Florida Turnpike.

Area C. That airspace extending upward from1,200 feet MSL to and including 4,000 feet MSL within a 10-mile radius of the Palm Beach International Airport, excluding area B.

* * * * *

Issued in Washington, DC, on August 1, 2023.
Karen L. Chiodini,
Acting Manager, Rules and Regulations Group.

[FR Doc. 2023-16689 Filed 8-9-23; 8:45 am]

BILLING CODE 4910-13-P